DEPARTMENT OF HEALTH AND HUMAN SERVICES

Health Resources and Services Administration

Advisory Committee on Training in Primary Care Medicine and Dentistry; Notice of Meeting

In accordance with section 10(a)(2) of the Federal Advisory Committee Act (Pub. L. 92-463), notice is hereby given of the following meeting:

Name: Advisory Committee on Training in Primary Care Medicine and Dentistry (ACTPCMD).

Date and Time: June 13, 2011, 1 p.m.-4 p.m. Eastern Time. June 14, 2011, 9 a.m.-Noon Eastern Time.

Place: Webinar format.

Status: The meeting will be open to the public.

Purpose: The Advisory Committee provides advice and recommendations on policy and program development to the Secretary of the U.S. Department of Health and Human Services (HHS), and is responsible for submitting an annual report to the Secretary and Congress concerning the activities under Sections 747 and 748 of the Public Health Service Act (PHS Act), as amended. At this meeting, the Advisory Committee will finalize its ninth report on the primary care pipeline. Reports are submitted to the Secretary, the Senate Committee on Health, Education, Labor and Pensions, and the House of Representatives Committee on Energy and Commerce.

Agenda: The meeting on Monday, June 13, will begin with opening remarks from the Advisory Committee leadership and welcoming comments from senior management of the Health Resources and Services Administration. The Advisory Committee will make final changes to its ninth report about revitalizing primary care by priming the primary care pipeline. On Tuesday, June 14, the Advisory Committee will discuss possible topics for its next report and develop plans and a timeline for completing the report. In addition, information will be provided from HRSA staff about the Committee's new legislative mandates regarding performance measures and longitudinal evaluation. The public will have an opportunity to provide oral comments at the end of each day's agenda. Agenda items are subject to change as priorities dictate.

Supplementary Information: For members of the public interested in participating in the webinar, please contact Sherrillyn Crooks, PA-C by e-mail at scrooks@hrsa.gov. Requests to attend can be made up to two days prior to the meeting. Participants will receive an e-mail response containing the link to the webinar. Requests to provide written comments should be sent to Sherrillyn Crooks by e-mail.

For Further Information Contact: Anyone interested in obtaining a roster of members or other relevant information should write or contact Jerilyn K. Glass, M.D., Ph.D., Advisory Committee Executive Secretary, Division of Medicine and Dentistry, Bureau of Health Professions, Health Resources and Services Administration, Room 9A-27, Parklawn Building, 5600 Fishers Lane, Rockville, Maryland 20857, Telephone (301) 443-7271. The Web address for information on the Advisory Committee and the June 13-14, 2011 meeting is http://bhpr.hrsa.gov/medicine-dentistry/actpcmd.

Dated: May 23, 2011.
Jennifer Riggle,
Deputy Director, Office of Management.

[FR Doc. 2011-13203 Filed 5-26-11; 8:45 am]

BILLING CODE 4165-15-P